DEPARTMENT OF TRANSPORTATION

Federal Aviation Administration

[Summary Notice No. PE-2003-20]

Petition for Exemption; Disposition of Petition Issued

AGENCY: Federal Aviation Administration (FAA), DOT.

ACTION: Notice of disposition of a prior petition.

SUMMARY: Pursuant to FAA's rulemaking provisions governing the application, processing, and disposition of petitions for exemption part 11 of Title 14, Code of Federal Regulations (14 CFR), this notice contains the disposition of a petition previously received. The purpose of this notice is to improve the public's awareness of, and participation in, this aspect of FAA's regulatory activities. Neither publication of this notice nor the inclusion or omission of information in the summary is intended to affect the legal status of any petition or its final disposition.

FOR FURTHER INFORMATION CONTACT: Mike Brown, Office of Rulemaking (ARM-1), Federal Aviation Administration, 800 Independence Avenue, SW., Washington, DC 20591. Tel. (202) 267-7653.

This notice is published pursuant to 14 CFR 11.85 and 11.91.

Issued in Washington, DC, on April 16, 2003.
Donald P. Byrne,
Assistant Chief Counsel for Regulations.

Disposition of Petition

Docket No.: FAA-2003-14324.

Petitioner: West Air Incorporated.

Section of 14 CFR Affected: 14 CFR 21.197(c)(2) and 135.411(b).

Description of Relief Sought/Disposition: To allow West Air Incorporated to ferry aircraft from their fleet of Cessna Caravans, as needed, without first filing a Form 8130-6 with the FAA.

Denial, 4/9/2003, Exemption No. 8024

[FR Doc. 03-9888 Filed 4-21-03; 8:45 am]

BILLING CODE 4910-13-P